ENVIRONMENTAL PROTECTION AGENCY

[ER-FRL-6681-8]

Environmental Impacts Statements; Notice of Availability

Responsible Agency: Office of Federal Activities, General Information (202) 564-7167 or http://www.epa.gov/compliance/nepa/.

Weekly receipt of Environmental Impact Statements

Filed 11/27/2006 Through 12/01/2006.

Pursuant to 40 CFR 1506.9.

EIS No. 20060499, Final EIS, COE, AR, Bayou Meto Basin, Arkansas General Reevaluation Project, Address Waterfowl Management, Water Supply and Flood Control Strategies, Located in Portions of Lonoke, Prairie, Jefferson, Arkansas and Pulaski Counties, AR, Wait Period Ends: 01/09/2007, Contact: Mark Smith 1-800-317-4156 Ext. 6070.

EIS No. 20060498, Draft EIS, COE, CA, Rio del Oro Specific Plan Project, To Establish a Development Framework for Land Use, Resource Protection, Circulation, Public Utilities and Services, City of Rancho Cordova, Sacramento County, CA, Comment Period Ends: 02/05/2007, Contact: Anna Sutton 916-557-7759.

EIS No. 20060500, Draft EIS, AFS, CA, Little Doe and Low Gulch Timber Sale Project, Proposes to Harvest Commercial Timber, Six Rivers National Forest, Mad River Ranger District, Trinity County, CA, Comment Period Ends: 01/22/2007, Contact: Ruben Escatell 707-574-6233.

Amended Notices

EIS No. 20060493, Draft EIS, IBR, CA, Folsom Dam Safety and Flood Damage Reduction Project, Addressing Hydrologic, Seismic, Static, and Flood Management Issues, Sacramento, El Dorado and Placer Counties, CA, Comment Period Ends: 01/22/2007, Contact: Shawn Oliver 916-989-7256 Revision of FR Notice Published on 12/01/2006: Correction to Comment Period from 1/16/2007 to 01/22/2007.

Dated: December 5, 2006.
Robert W. Hargrove,
Director, NEPA Compliance Division, Office of Federal Activities.

[FR Doc. E6-20894 Filed 12-7-06; 8:45 am]

BILLING CODE 6560-50-P